DEPARTMENT OF THE INTERIOR

Geological Survey

[GX20EG31DW50100; OMB Control Number 1028-NEW]

Agency Information Collection Activities; Submission to the Office of Management and Budget for Review and Approval; Hydrography Addressing Tool

AGENCY: U.S. Geological Survey, Interior.

ACTION: Notice of information collection; request for comment.

SUMMARY: In accordance with the Paperwork Reduction Act of 1995 (PRA, 44 U.S.C. 3501 et seq.), we, the U.S. Geological Survey (USGS) are proposing a new information collection.

DATES: Interested persons are invited to submit comments on or before September 20, 2021.

ADDRESSES: Written comments and recommendations for the proposed information collection should be sent within 30 days of publication of this notice to www.reginfo.gov/public/do/PRAMain. Find this particular information collection by selecting “Currently under 30-day Review—Open for Public Comments” or by using the search function. Please provide a copy of your comments to U.S. Geological Survey, Information Collections Officer, 12201 Sunrise Valley Drive MS 159, Reston, VA 20192; or by email to gs-info_collections@usgs.gov. Please reference OMB Control Number 1028-NEW in the subject line of your comments.

FOR FURTHER INFORMATION CONTACT: To request additional information about this ICR, contact Michael Tinker by email at mdtinker@usgs.gov, or by telephone at 303-202-4476. You may also view the ICR at http://www.reginfo.gov/public/do/PRAMain. Individuals who are hearing or speech impaired may call the Federal Relay Service at 1-800-877-8339 for TTY assistance.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on February 3, 2021, (86 FR 8030). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information may be made publicly available at any time. While you can ask us in your comment to withhold your personal identifying information from public review, we cannot guarantee that we will be able to do so.

Abstract

The Hydrography Addressing Tool (HydroAdd) is a web tool built by the USGS National Geospatial Program (NGP). HydroAdd will support users by providing a mechanism for referencing, or addressing, diverse external datasets to the National Hydrography Dataset (NHD). As an example, a user could use HydroAdd to reference the geographic locations and other details of field observations of fish presence to the NHD. HydroAdd will provide a framework for the management of addressed data, as well as enable upstream and down-stream analyses within the context of the stream network itself. Any type of information could be addressed to the stream network in this way, making this tool highly useful for a broad range of purposes that benefit the Nation.

HydroAdd users will be Federal employees, such as USGS or other Department of the Interior (DOI) employees; or members of the public, such as state, local, private sector, academic, or other users with knowledge of GIS and knowledge of how to create a web feature service. HydroAdd allows users to edit the geometry of the features in their web feature services to be coincident with NHD features. Users cannot edit the NHD with HydroAdd as it is displayed in the application as a read-only reference layer. Users must make their own datasets available to HydroAdd as a web feature service, either from their own server hardware or from a third-party service, and all edits take place in their own web feature service.

To use HydroAdd, users must register a user account profile which contains their business email and username. This information is stored in the application database. A user's profile is visible only to themselves and by HydroAdd administrators. HydroAdd administrators are a limited group of USGS staff. User accounts are important because they enable HydroAdd administrators to contact and help the user if needed, help to protect the user's data from edit by anyone who is not the user, and enable tracking on the editing history for the datasets through reporting.

HydroAdd administrators also have access to reporting functions. The reports detail the edit history of the service layer. User profiles are visible in these reports. Standard editors do not have access to the reporting functions.

Title of Collection: Hydrography Addressing Tool.

OMB Control Number: 1028-NEW.

Form Number: NA.

Type of Review: NEW.

Respondents/Affected: Public USGS Water Scientists, NHD stewards and editors affiliated with Federal, State, Local governments, and universities.

Total Estimated Number of Annual Respondents: 100.

Total Estimated Number of Annual Responses: 100.

Estimated Completion Time per Response: 1 minute.

Total Estimated Number of Annual Burden Hours: 2 hours.

Respondent's Obligation: Voluntary.

Frequency of Collection: one time, or as needed if respondent business contact information changes.

Total Estimated Annual Nonhour Burden Cost: None.

An agency may not conduct, or sponsor and a person is not required to respond to a collection of information unless it displays a currently valid OMB control number.

The authority for this action is the Paperwork Reduction Act of 1995 (44 U.S.C. 3501 et seq.).

David Brostuen,
Director, National Geospatial Technical Operations Center.

[FR Doc. 2021-17768 Filed 8-18-21; 8:45 am]

BILLING CODE P